DEPARTMENT OF AGRICULTURE

Agricultural Marketing Service

[No. LS-04-11]

Results of Soybean Request for Referendum

AGENCY: Agricultural Marketing Service, USDA.

ACTION: Notice.

SUMMARY: The Agricultural Marketing Service's (AMS) Request for Referendum shows that too few soybean producers want a referendum on the Soybean Promotion and Research Order (Order) for one to be conducted. The Request for Referendum was held from May 1, 2004, through May 28, 2004, at the Department of Agriculture's (USDA) county Farm Service Agency offices. To trigger a referendum 66,388 soybean producers must complete a Request for Referendum. The number of soybean producers requesting a referendum was 3,206.

FOR FURTHER INFORMATION CONTACT: Kenneth R. Payne, Chief; Marketing Programs Branch, Room 2638-S; Livestock and Seed Program, AMS, USDA; STOP 0251; 1400 Independence Avenue, SW.; Washington, DC 20250-0251, telephone number 202/720-1115, or via e-mail at Kenneth.Payne@usda.gov.

SUPPLEMENTARY INFORMATION: Pursuant to the Soybean Promotion, Research, and Consumer Information Act (Act) (7 U.S.C. 6301 et seq.), every 5 years the Secretary of Agriculture (Secretary) will give soybean producers the opportunity to request a referendum on the Order. If the Secretary determines that at least 10 percent of U.S. producers engaged in growing soybeans (not in excess of one-fifth of which may be producers in any one State) support the conduct of a referendum, the Secretary must conduct a referendum within 1 year of that determination. If these requirements are not met, a referendum would not be conducted.

A notice of opportunity to Request a Soybean Referendum was publicized in the Federal Register (69 FR 15289) on March 25, 2004. To be eligible to participate in the Request for Referendum, producers or the producer entity that they are authorized to represent must have certified and provided supporting documentation showing that they or the producer entity they represent paid on assessment sometime during the representative period between January 1, 2002, and December 31, 2003.

According to USDA, there are 663,880 soybean producers in the United States (see 69 FR 13458).

A total of 3,206 valid Requests for Referendum were completed by eligible soybean producers. This number does not meet the requisite number of 66,388. Therefore, based on the Request for Referendum results, a referendum will not be conducted. In accordance with the provisions of the Act, soybean producers will be provided another opportunity to request a referendum in 5 years.

The following is the State-by-State results of the Request for Referendum:

State | Number of valid requests for referendum
Alabama | 0
Alaska | 0
Arizona | 0
Arkansas | 19
California | 0
Colorado | 4
Connecticut | 0
Delaware | 1
Florida | 0
Georgia | 6
Hawaii | 0
Idaho | 0
Illinois | 1,145
Indiana | 220
Iowa | 542
Kansas | 92
Kentucky | 11
Louisiana | 2
Maine | 0
Maryland | 6
Massachusetts | 0
Michigan | 49
Minnesota | 258
Mississippi | 4
Missouri | 182
Montana | 0
Nebraska | 92
Nevada | 0
New Hampshire | 0
New Jersey | 1
New Mexico | 0
New York | 1
North Carolina | 18
North Dakota | 16
Ohio | 331
Oklahoma | 7
Oregon | 0
Pennsylvania | 20
Puerto Rico | 0
Rhode Island | 0
South Carolina | 4
South Dakota | 112
Tennessee | 9
Texas | 5
Utah | 0
Vermont | 0
Virginia | 10
Washington | 0
West Virginia | 11
Wisconsin | 28
Wyoming | 0
Total | 3,206

Authority: 7 U.S.C. 6301-6311.

Dated: July 14, 2004.
A. J. Yates,
Administrator, Agricultural Marketing Service.

[FR Doc. 04-16487 Filed 7-20-04; 8:45 am]

BILLING CODE 3410-02-M